DEPARTMENT OF COMMERCE

National Oceanic and Atmospheric Administration

RIN 0648-XV40

Marine Mammals; File No. 14118

AGENCY: National Marine Fisheries Service (NMFS), National Oceanic and Atmospheric Administration (NOAA), Commerce.

ACTION: Notice; receipt of application.

SUMMARY: Notice is hereby given that Becky Woodward, Ph.D., 266 Woods Hole Road, MS #50, Woods Hole, MA 02543, has applied in due form for a permit to conduct research on cetaceans.

DATES: Written, telefaxed, or e-mail comments must be received on or before April 22, 2010.

ADDRESSES: The application and related documents are available for review by selecting “Records Open for Public Comment” from the Features box on the Applications and Permits for Protected Species (APPS) home page, https://apps.nmfs.noaa.gov, and then selecting File No. 14118 from the list of available applications. These documents are also available upon written request or by appointment in the following offices: See SUPPLEMENTARY INFORMATION.

Written comments on this application should be submitted to the Chief, Permits, Conservation and Education Division, NMFS, 1315 East-West Highway, Room 13705, Silver Spring, MD 20910. Comments may also be submitted by facsimile to (301) 713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Carrie Hubard or Kristy Beard, (301) 713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The applicant requests a permit to attach tags to a variety of large and small endangered and non-endangered cetacean species. Research would occur in the North Atlantic from Maine to Texas and in the North Pacific from Alaska to California, including Hawaii. A peduncle belt type tag attachment mechanism has been developed as a noninvasive tagging option for medium to long-term cetacean studies. Two different types of peduncle belt tags would be used: (1) a form-fitting saddle pack tag which sits on the dorsal ridge of the peduncle just before the fluke insertion and (2) a peduncle-let harness which secures a towed telemetry buoy. Multiple research objectives would be addressed using data from the tags, including: (1) long-term movement and habitat use studies using satellite/GPS/depth tags, (2) medium-term acoustic studies using an audio recording package to examine transmitted and received sound, and (3) extended fine-scale behavioral ecology studies using multi-sensor data recording packages.

Initial efforts would be limited to five species. In the first year, a maximum of 10 humpback whales (Megaptera novaeangliae), 10 long-finned pilot whales (Globicephala melas), 10 short-finned pilot whales (G. macrorhynchus), and 10 false killer whales (Pseudorca crassidens) would be tagged in the Atlantic Ocean. In the Pacific Ocean, the applicant would tag a maximum of 10 long-finned pilot whales, 10 short-finned pilot whales, 10 false killer whales, and 10 belugas (Delphinapterus leucas) of the Bristol Bay stock during the first year of the permit.

Based on the success of the tagging, research efforts would expand during the life of the permit to incorporate new species and to increase the number of animals tagged annually. During the second year of the permit, sperm whales (Physeter macrocephalus), minke whales (Balaenoptera acutorostrata), Blainville's beaked whales (Mesoplodon densirostris), Cuvier's beaked whales (Ziphius cavirostris), and eastern North Pacific gray whales (Eschrichtius robustus) would also be targeted for tagging. In year three, the applicant would add North Atlantic right whales (Eubalaena glacialis) and belugas of the Cook Inlet stock to the species that may be tagged.

Other research activities include photo-identification, behavioral observations, tracking and monitoring, passive acoustics, photography and video both above water and underwater, and collection of sloughed skin. Other animals, including fin (B. physalus) and sei (B. borealis) whales, may be incidentally harassed during tagging operations. See the application for specific take numbers by species and year. The permit would be valid for a period of five years.

Concurrent with the publication of this notice in the Federal Register, NMFS is forwarding copies of this application to the Marine Mammal Commission and its Committee of Scientific Advisors.

Documents may be reviewed in the following locations:

Permits, Conservation and Education Division, Office of Protected Resources, NMFS, 1315 East-West Highway, Room 13705, Silver Spring, MD 20910; phone (301) 713-2289; fax (301) 713-0376;

Northwest Region, NMFS, 7600 Sand Point Way NE, BIN C15700, Bldg. 1, Seattle, WA 98115-0700; phone (206) 526-6150; fax (206) 526-6426;

Alaska Region, NMFS, P.O. Box 21668, Juneau, AK 99802-1668; phone (907) 586-7221; fax (907) 586-7249;

Southwest Region, NMFS, 501 West Ocean Blvd., Suite 4200, Long Beach, CA 90802-4213; phone (562) 980-4001; fax (562) 980-4018;

Pacific Islands Region, NMFS, 1601 Kapiolani Blvd., Rm 1110, Honolulu, HI 96814-4700; phone (808) 944-2200; fax (808) 973-2941;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Dated: March 18, 2010.
P. Michael Payne,
Chief, Permits, Conservation and Education Division, Office of Protected Resources, National Marine Fisheries Service.

[FR Doc. 2010-6336 Filed 3-22-10; 8:45 am]

BILLING CODE 3510-22-S